DEPARTMENT OF ENERGY

Federal Energy Regulatory Commission

Combined Notice of Filings #1

Take notice that the Commission received the following electric rate filings:

Docket Numbers: ER23-495-000.

Applicants: AES CE Solutions, LLC.

Description: Baseline eTariff Filing: AES CE Solutions, LLC MBR Tariff to be effective 11/24/2022.

Filed Date: 11/23/22.

Accession Number: 20221123-5182.

Comment Date: 5 p.m. ET 12/12/22.

Docket Numbers: ER23-496-000.

Applicants: Puget Sound Energy, Inc.

Description: § 205(d) Rate Filing: Amendment to BP Products North America, Inc to be effective 10/1/2019.

Filed Date: 11/23/22.

Accession Number: 20221125-5000.

Comment Date: 5 p.m. ET 12/12/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2022.
Debbie-Anne A. Reese,
Deputy Secretary.

[FR Doc. 2022-26132 Filed 11-30-22; 8:45 am]

BILLING CODE 6717-01-P